DEPARTMENT OF TRANSPORTATION

National Highway Traffic Safety Administration

[Docket No. NHTSA-2001-10916]

Child Restraint Systems

AGENCY: National Highway Traffic Safety Administration (NHTSA), Department of Transportation.

ACTION: Notice; availability of research report.

SUMMARY: This notice announces the availability of a research report on child restraint labels. The research was conducted in July of 2003. This notice also announces that NHTSA does not plan to conduct further rulemaking on child restraint labels at this time.

FOR FURTHER INFORMATION CONTACT: Mary Versailles of the NHTSA Office of International Policy, Fuel Economy and Consumer Programs, National Highway Traffic Safety Administration, 400 Seventh St., SW., Washington, DC 20590. Phone: 202-366-2057.

SUPPLEMENTARY INFORMATION: The Transportation Recall Enhancement, Accountability, and Documentation Act (TREAD; November 1, 2000, Pub.L. 106-414, 114 Stat. 1800) mandated that NHTSA consider whether to prescribe clearer and simpler labels and instructions for child restraint systems. On November 2, 2001 (66 FR 55623), NHTSA published a notice of proposed rulemaking (NPRM) proposing changes to the format, location, and content of some of the existing labeling requirements of the Federal motor vehicle safety standard for child restraint systems (49 CFR 571.213). Specifically, NHTSA proposed (1) A requirement that some information be molded into or heat embossed to the shell of the child restraint to improve durability, (2) changes to existing location requirements for some labels, (3) a uniform font specified for all labels on all child restraints, (4) a requirement that most labels be white with black text, and (5) color-coding of installation information to distinguish forward-facing from rear-facing information. In addition, with regard to content, NHTSA proposed (6) a reworded warning statement, (7) a requirement that all mandated statements related to use be arranged below that statement in a bulleted form, (8) rewording of some of these statements to simplify their language, and (9) a new diagram showing the child restraint with a new child restraint anchorage system (see 49 CFR 571.225). With regard to written instructions, NHTSA proposed (10) conforming changes with those proposed for labels and (11) a new requirement for information to assist owners in determining the meaning of the term “snugly” used on child restraint labels. Last, NHTSA proposed (12) a new labeling requirement for harness slots.

On October 1, 2002 (67 FR 61523), NHTSA published a final rule ¹ amending the requirements for child restraint labels and the written instructions that accompany child restraints. Specifically, NHTSA (1) changed the then existing location requirements for some labels, (2) required most labels to be white with black text, (3) reworded some label statements to simplify their language, (4) required mandated statements on the labels to be in a bulleted list headed by the statement “WARNING! DEATH or SERIOUS INJURY can occur,” (5) required a new diagram showing the child restraint secured using the new child restraint anchorage system, and (6) required some additional information defining the term “snugly” to be in the written instructions. The final rule was effective October 1, 2003.

¹ See also 69 FR 11337 (March 10, 2004), response to petitions for reconsideration.

Subsequent to the November 2, 2001 notice of proposed rulemaking for that final rule, Transport Canada had conducted research on child restraint labels. After a review of the Transport Canada study, NHTSA had concerns about the proposals concerning font, color-coding and harness slot labeling. Therefore, the preamble to the October 2002 final rule indicated that NHTSA would conduct further research before proposing further changes to the requirements for child restraint labels.

In July of 2003, NHTSA conducted further research on child restraint labels. NHTSA followed similar procedures as that used by Transport Canada in their research. The research report is available in docket NHTSA-2001-10916. After reviewing this research, NHTSA has decided that it will not conduct further rulemaking at this time.

The major issue that the research examined was color-coding. In the November 2001 NPRM, NHTSA proposed to require forward-facing instructions to be outlined in red and rearward-facing instructions to be outlined in blue. These colors were chosen to harmonize with a European requirement. The Transport Canada study found a large number of child restraints incorrectly installed forward-facing, rather than rearward-facing, for the infant dummy for all label configurations. Transport Canada theorized that one source of the confusion was the red color-coding attracting attention towards the forward-facing instructions and away from the rearward-facing instructions. Therefore, Transport Canada recommended color-coding with red for rearward-facing and blue for forward-facing. This color combination was used in our 2003 research and did not show a significant improvement in correct installations.

In the October 2002 final rule, NHTSA also indicated it would conduct further passive analysis research at the next stage of the rulemaking. On further consideration, NHTSA has decided that it will not conduct this or any other follow-on research at this time. NHTSA has not received any comments or petitions expressing concern with the labels since the effective date in October 2003. Therefore, given the limited resources of the agency, NHTSA does not feel further research is warranted at this time. NHTSA will concentrate its efforts in areas with greater potential payoffs.

Issued on: July 19, 2005.
Stephen R. Kratzke,
Associate Administrator for Rulemaking.

[FR Doc. 05-14591 Filed 7-22-05; 8:45 am]

BILLING CODE 4910-59-P